ENVIRONMENTAL PROTECTION AGENCY

[FRL-9497-2]

Proposed CERCLA Administrative Bona Fide Prospective Purchaser Settlement; The City of Dowagiac Brownfield Redevelopment Authority

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of past and projected future response costs concerning the ICG Castings, Inc., Dowagiac site in Dowagiac, Michigan with the following settling party: The City Of Dowagiac Brownfield Redevelopment Authority. The settlement requires the settling party to pay $25,000 to the Hazardous Substance Superfund and requires the performance of specified response activities for the site. The settlement includes a covenant not to sue the settling party pursuant to Sections 106 and 107(a) of CERCLA, 42 U.S.C. 9606 and 9607(a). For 30 days following the date of publication of this notice, the United States will receive written comments relating to the settlement. The United States will consider all comments received and may modify or withdraw its consent to the settlement if comments received disclose facts or considerations which indicate that the settlement is inappropriate, improper or inadequate. The United States response to any comments received will be available for public inspection at the Dowagiac District Library, 211 Commercial Street, Dowagiac, Michigan 49047, Attn: Katherine Johnson and 77 West Jackson Boulevard, 7th floor Superfund File Room, Chicago, Illinois.

DATES: Comments must be submitted on or before December 28, 2011.

ADDRESSES: The proposed settlement is available for public inspection at 77 West Jackson Boulevard, 7th floor Superfund File Room, Chicago, Illinois. A copy of the proposed settlement may be obtained from Stuart P. Hersh, Associate Regional Counsel, C-14J, 77 West Jackson Boulevard, Chicago, Illinois 60604, telephone: (312) 886-6235. Comments should reference the ICG Castings, Inc., Dowagiac site in Dowagiac, Michigan and EPA Docket No. V-W-11-C-978 and should be addressed to Stuart P. Hersh, Associate Regional Counsel, C-14J, 77 West Jackson Boulevard, Chicago, Illinois 60604.

FOR FURTHER INFORMATION CONTACT: Stuart P. Hersh, Associate Regional Counsel, C-14J, 77 West Jackson Boulevard, Chicago, Illinois 60604, telephone (312) 886-6235

Authority: The Comprehensive Environmental Response, Compensation, and Liability Act of 1980, as amended, 42 U.S.C. 9601, et seq.

Dated: November 21, 2011.
Richard C. Karl,
Director, Superfund Division, Site ID Number B5VQ.

[FR Doc. 2011-30554 Filed 11-25-11; 8:45 am]

BILLING CODE 6560-50-P